DEPARTMENT OF ENERGY

Federal Energy Regulatory Commission

Combined Notice of Filings #1

October 20, 2009.

Take notice that the Commission received the following exempt wholesale generator filings:

Docket Numbers: EG10-4-000.

Applicants: Three Buttes Windpower, LLC.

Description: Notice of Self-Certification as an Exempt Wholesale Generator of Three Buttes Windpower, LLC.

Filed Date: 10/20/2009.

Accession Number: 20091020-5026.

Comment Date: 5 p.m. Eastern Time on Tuesday, November 10, 2009.

Take notice that the Commission received the following electric rate filings:

Docket Numbers: ER09-730-003.

Applicants: PJM Interconnection, LLC.

Description: PJM Interconnection, LLC submits Third Substitute Original Sheet 241 A et al to FERC Electric Tariff, Sixth Revised Volume 1.

Filed Date: 10/19/2009.

Accession Number: 20091020-0018.

Comment Date: 5 p.m. Eastern Time on Monday, November 9, 2009.

Docket Numbers: ER09-1247-003.

Applicants: California Independent System Operator Corporation.

Description: California Independent System Operator Corporation submits a Compliance Filing with 9/17/09 order.

Filed Date: 10/19/2009.

Accession Number: 20091020-0063.

Comment Date: 5 p.m. Eastern Time on Monday, November 9, 2009.

Docket Numbers: ER09-1612-001.

Applicants: New York Independent System Operator, Inc.

Description: New York Independent System Operator, Inc submits response to FERC's 10/16 letter, amends its 8/20/09 filing in the proceeding, and requests expedited action by the Commission.

Filed Date: 10/19/2009.

Accession Number: 20091020-0050.

Comment Date: 5 p.m. Eastern Time on Monday, October 26, 2009.

Docket Numbers: ER09-1720-001.

Applicants: Tuolumne Wind Project, LLC.

Description: Tuolumne Wind Project, LLC submits amended notice of cancellation with a request that the notice take effect on 9/19/09.

Filed Date: 10/19/2009.

Accession Number: 20091020-0048.

Comment Date: 5 p.m. Eastern Time on Monday, November 9, 2009.

Docket Numbers: ER10-76-000.

Applicants: New York State Electric & Gas Corporation.

Description: New York State Electric & Gas Corporation submits supplement to Rate Schedule FERC No 72 Facilities Agreement with Municipal Board of the Village of Bath.

Filed Date: 10/19/2009.

Accession Number: 20091020-0017.

Comment Date: 5 p.m. Eastern Time on Monday, November 9, 2009.

Docket Numbers: ER10-77-000.

Applicants: New York State Electric & Gas Corporation.

Description: New York State Electric & Gas Corporation submits supplement to Rate Schedule FERC No 117.

Filed Date: 10/19/2009.

Accession Number: 20091020-0015.

Comment Date: 5 p.m. Eastern Time on Monday, November 9, 2009.

Docket Numbers: ER10-79-000.

Applicants: PJM Interconnection, LLC.

Description: PJM Interconnection, LLC submits notice of cancellation of an interconnection service agreement with Fairless Energy, LLC et al designated as Substitute Original Service Agreement 977.

Filed Date: 10/19/2009.

Accession Number: 20091020-0047.

Comment Date: 5 p.m. Eastern Time on Monday, November 9, 2009.

Docket Numbers: ER10-81-000.

Applicants: Westar Energy, Inc.

Description: Westar Energy, Inc. submits a Notice of Cancellation of first revised rate schedule 168 between Kansas Gas and Electric Company and City of Arma, Kansas.

Filed Date: 10/20/2009.

Accession Number: 20091020-0062.

Comment Date: 5 p.m. Eastern Time on Tuesday, November 10, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. E9-26056 Filed 10-28-09; 8:45 am]

BILLING CODE 6717-01-P